DEPARTMENT OF TRANSPORTATION

Federal Motor Carrier Safety Administration

[Docket No. FMCSA-2018-0105]

Hours of Service of Drivers: Application for Exemption; Wilcox Truck Line, Inc.

AGENCY: Federal Motor Carrier Safety Administration (FMCSA), DOT.

ACTION: Notice of application for exemption; request for comments.

SUMMARY: FMCSA announces that Wilcox Truck Line, Inc. (Wilcox) has requested an exemption from the requirement that a motor carrier install and require each of its drivers to use an electronic logging device (ELD) to record the driver's hours-of-service (HOS). Wilcox has requested a 5-year exemption from ELD use when transporting loads in support of an Idaho National Laboratory (INL) program. INL has submitted a letter confirming that security regulations require these loads must be free from being electronically tracked, which requires disabling of the ELD. Wilcox believes that granting this exemption will provide an equivalent level of safety because of the strict oversight of this transportation by INL and other agencies. FMCSA requests public comment on Wilcox's application for exemption.

DATES: Comments must be received on or before May 4, 2018.

ADDRESSES: You may submit comments identified by Federal Docket Management System (FDMS) Number FMCSA-2018-0105 by any of the following methods:

• Federal eRulemaking Portal: www.regulations.gov. See the Public Participation and Request for Comments section below for further information.

• Mail: Docket Management Facility, U.S. Department of Transportation, 1200 New Jersey Avenue SE, West Building, Ground Floor, Room W12-140, Washington, DC 20590-0001.

• Hand Delivery or Courier: West Building, Ground Floor, Room W12-140, 1200 New Jersey Avenue SE, between 9 a.m. and 5 p.m., Monday through Friday, except Federal holidays.

• Fax: 1-202-493-2251.

• Each submission must include the Agency name and the docket number for this notice. Note that DOT posts all comments received without change to www.regulations.gov, including any personal information included in a comment. Please see the Privacy Act heading below.

Docket: For access to the docket to read background documents or comments, go to www.regulations.gov at any time or visit Room W12-140 on the ground level of the West Building, 1200 New Jersey Avenue SE, Washington, DC, between 9 a.m. and 5 p.m., ET, Monday through Friday, except Federal holidays. The on-line FDMS is available 24 hours each day, 365 days each year.

Privacy Act: In accordance with 5 U.S.C. 553(c), DOT solicits comments from the public to better inform its regulatory process. DOT posts these comments, without edit, including any personal information the commenter provides, to www.regulations.gov, as described in the system of records notice (DOT/ALL-14 FDMS), which can be reviewed at www.dot.gov/privacy.

FOR FURTHER INFORMATION CONTACT: For information concerning this notice, contact Mr. Thomas Yager, Chief, FMCSA Driver and Carrier Operations Division; Office of Carrier, Driver and Vehicle Safety Standards; Telephone: 614-942-6477. Email: MCPSD@dot.gov. If you have questions on viewing or submitting material to the docket, contact Docket Services, telephone (202) 366-9826.

SUPPLEMENTARY INFORMATION:

I. Public Participation and Request for Comments

FMCSA encourages you to participate by submitting comments and related materials.

Submitting Comments

If you submit a comment, please include the docket number for this notice (FMCSA-2018-0105), indicate the specific section of this document to which the comment applies, and provide a reason for suggestions or recommendations. You may submit your comments and material online or by fax, mail, or hand delivery, but please use only one of these means. FMCSA recommends that you include your name and a mailing address, an email address, or a phone number in the body of your document so the Agency can contact you if it has questions regarding your submission.

To submit your comments online, go to www.regulations.gov and put the docket number, “FMCSA-2018-0105” in the “Keyword” box, and click “Search.” When the new screen appears, click on “Comment Now!” button and type your comment into the text box in the following screen. Choose whether you are submitting your comment as an individual or on behalf of a third party, and then submit. If you submit your comments by mail or hand delivery, submit them in an unbound format, no larger than 8½ by 11 inches, suitable for copying and electronic filing. If you submit comments by mail and would like to know that they reached the facility, please enclose a stamped, self-addressed postcard or envelope. FMCSA will consider all comments and material received during the comment period and may grant or not grant this application based on your comments.

II. Legal Basis

FMCSA has authority under 49 U.S.C. 31136(e) and 31315 to grant exemptions from certain parts of the Federal Motor Carrier Safety Regulations (FMCSRs). FMCSA must publish a notice of each exemption request in the Federal Register (49 CFR 381.315(a)). The Agency must provide the public an opportunity to inspect the information relevant to the application, including any safety analyses that have been conducted. The Agency must also provide an opportunity for public comment on the request.

The Agency reviews safety analyses and public comments submitted, and determines whether granting the exemption would likely achieve a level of safety equivalent to, or greater than, the level that would be achieved by the current regulation (49 CFR 381.305). The decision of the Agency must be published in the Federal Register (49 CFR 381.315(b)) with the reasons for denying or granting the application and, if granted, the name of the person or class of persons receiving the exemption, and the regulatory provision from which the exemption is granted. The notice must also specify the effective period and explain the terms and conditions of the exemption. The exemption may be renewed (49 CFR 381.300(b)).

III. Request for Exemption

Wilcox Truck Line, Inc. (Wilcox) is the primary carrier for special projects at the U.S. Department of Energy's (DOE) Idaho National Laboratory (INL) to transport shipments which need additional controls to address national security interests. All Wilcox drivers supporting this specific INL program would be covered by this exemption when transporting designated shipments for INL. The number of commercial motor vehicles (CMVs) for this exemption is fewer than 20, and fewer than 40 drivers will be covered. Wilcox always uses specific team drivers who have been completely vetted by the DOE to transport these shipments.

One DOE/INL security requirement is the ability to disable electronic tracking of shipments in order to limit identification of the physical location of the shipment. These shipments require that no telematic tracking device be used during the movement of the shipment. Wilcox uses ELDs for its normal operations but would disable them when transporting INL-designated special shipments. INL would provide documentation for use during any inspection, showing that the exemption is in use for that shipment. Wilcox states that the controls that will be used in lieu of ELDs will be sufficient to ensure there is no degradation of safety. INL has submitted to the docket for this exemption a letter dated January 30, 2018, confirming that these controls will include the following measures:

• Specific team drivers will be used who have been vetted by DOE to transport national security interests (NSI) loads;

• Logbooks will be used to document hours of service when the ELDs are disabled;

• Drivers will be required by INL to have a cell phone in their possession while transporting these shipments;

• INL will require drivers to call-in to INL's 24-hour Warning Communications Center to report their condition and ensure they are not experiencing any issues in transit; and

• The Battelle Energy Alliance (BEA) will perform routine audits of Wilcox Truck line, Inc., to ensure they are compliant with Federal and State DOT requirements.

IV. Method To Ensure an Equivalent or Greater Level of Safety

The requested exemption would be used only for the special shipments designated by INL in documentation carried on vehicles transporting the special shipments. Additional details of these shipments could be reviewed by an official having proper authorization given by the shipper or the carrier's Facility Security Officer (FSO). All drivers will carry approved cell phones at all times during shipments. Communications will be maintained during transport via regular cell phone “check calls” to the shipper and or the FSO/terminal operations or both. As required, drivers will maintain regular “check calls” to the INL's Warning Communications Center, which is continuously staffed, to report their condition and ensure the shipment is experiencing no issues.

Copies of Wilcox's application for an exemption and the supporting INL letter are available for review in the docket for this notice.

Issued on: March 27, 2018.
Larry W. Minor,
Associate Administrator for Policy.

[FR Doc. 2018-06861 Filed 4-3-18; 8:45 am]

BILLING CODE 4910-EX-P